SMALL BUSINESS ADMINISTRATION

Office of the National Ombudsman

Tri-Regional Regulatory Fairness Board Town Hall Meeting

The Office of the National Ombudsman, U.S. Small Business Administration, will convene a Town Hall Meeting on Wednesday, August 29, 2001, from 3:00-5:30 pm EST, at the Hyatt Regency, One Goat Island, Newport, RI, 02840, to hear comments and/or complaints from small businesses and representatives of trade associations concerning potentially unfair regulatory enforcement or compliance actions taken by Federal agencies.

Anyone wishing to attend and make comments must contact James Van Wert, Acting National Ombudsman, U.S. Small Business Administration, 409 3rd Street, SW, Washington, DC 20416, no later than August 24, 2001 via telephone (202) 205-2417 e-mail ombudsman@sba.gov or fax (202) 481-5719.

Steve Tupper,
Committee Management Officer.

[FR Doc. 01-21350 Filed 8-23-01; 8:45 am]

BILLING CODE 8025-01-P